DEPARTMENT OF AGRICULTURE

Agricultural Research Service

Notice of Intent To Seek Reinstatement of an Information Collection

AGENCY: Agricultural Research Service, USDA.

ACTION: Notice and request for comments.

SUMMARY: In accordance with the Paperwork Reduction Act of 1995 (44 U.S.C. Chapter 3) and the office of Management and Budget (OMB) regulations at 5 CFR part 1320, this notice announces the Agricultural Research Service's (ARS) intent to seek reinstatement of the ARS Animal Health National Program Assessment Survey, which seeks input on the impact of the Animal Health National Research Program through the completion of an electronic evaluation form. This voluntary information collection will give the beneficiaries of ARS research the opportunity to provide input on the impact of the research conducted by ARS in the last national program cycle. This input will be used for planning the research agenda for the next 5-year program cycle.

DATES: Comments must be submitted on or before September 23, 2009.

ADDRESSES: Address all comments concerning this notice to Dr. Cyril G. Gay, National Program Leader, Agricultural Research Service, National Program Staff, Animal Production and Protection, 5601 Sunnyside Avenue, GWCC, Building 4, Beltsville, Maryland 20705-5148. Comments may be sent by phone to (301) 504-4786 or fax to (301) 504-4873. Submit electronic comments to Cyril.Gay@ars.usda.gov.

FOR FURTHER INFORMATION CONTACT: Dr. Cyril G. Gay at (301) 504-4786.

SUPPLEMENTARY INFORMATION: Title: ARS Animal Health National Program Assessment Evaluation Form.

OMB Number: 0518-0042.

Expiration Date: January 4, 2008.

Type of Request: Approval to seek reinstatement of the ARS Animal Health National Program Assessment Survey, which seeks input from the beneficiaries of research conducted by ARS for program planning and ensures alignment of the Animal Health National Program with the needs of our customers, partners, and stakeholders.

Abstract: This voluntary electronic evaluation form will give the beneficiaries of ARS research the opportunity to provide input on the impact of the national program on animal agriculture. For the purpose of this National Program Assessment, impact is defined as research that has influenced or will significantly influence the animal sciences and animal health, has created or will create economic opportunities for producers and farmers, or has enabled or will enable action and regulatory agencies to formulate policies and regulations to support American agriculture. The report and evaluation form can be found online at: http://www.afmtestlab.ars.usda.gov/surveys/ahnp/survey.htm

The input provided through the completion of the evaluation form will be shared with customers, partners, and stakeholders at the Animal Health National Program Assessment Workshop, which will be held in March of 2010, location to be determined.

ARS National Program Assessments are conducted every five years, through the organization of one or more workshops. Workshops allow ARS to periodically update the vision and rationale of each National Program and assess the relevancy, effectiveness, and responsiveness of ARS research. In addition, the workshops facilitate the review and simultaneously provide an opportunity for customers, stakeholders, and partners to assess the progress made through the National Program and provide input for future modifications to the National Program or the National Program's research agenda. In the case of the ARS Animal Health National Program, the beneficiaries of the research are numerous, including the majority of the livestock and poultry industries, trade associations, federal and state government agencies, and research partners in universities and the private sector. The electronic evaluation form will allow ARS to outreach to its many customers, partners, and stakeholders that are unable to attend the workshop and also ensure an efficient means of obtaining the greatest amount of input on the impact and direction of the ARS Animal Health National Research Program.

Estimate of Burden: Completing the electronic evaluation form is estimated to average 15 minutes per response.

Estimated Number of Respondents: 400.

Estimated Number of Responses per Respondent: 1.

Estimated Total Annual Burden on Respondents: 100 hours.

Comments are invited on (a) whether the proposed collection of information is necessary for the proper performance of the functions of the agency, including whether the information will have practical utility; (b) the accuracy of the agency's estimate of the burden of the proposed collection of information, including the validity of the methodology and the assumptions used; (c) ways to enhance the quality, utility, and clarity of the input provided by a wide array of customers, and; (d) ways to minimize the burden of the collection of information on those who respond, including the use of appropriate automated, electronic, mechanical, or other technology. Comments should be sent to the address in the preamble. All responses to this notice will be summarized and included in the request for OMB approval. All comments will become a matter of public record.

Dated: July 21, 2009.
Caird E. Rexroad, Jr.,
Associate Administrator, ARS.

[FR Doc. E9-18848 Filed 8-5-09; 8:45 am]

BILLING CODE 3410-03-P